DEPARTMENT OF AGRICULTURE

Forest Service

Central Montana Resource Advisory Committee

AGENCY: Forest Service, USDA.

ACTION: Notice of meeting.

SUMMARY: The Central Montana Resource Advisory Committee will meet in Stanford, Montana. The committee is authorized under the Secure Rural Schools and Community Self-Determination Act (Pub. L. 110-343) (the Act) and operates in compliance with the Federal Advisory Committee Act. The purpose of the committee is to improve collaborative relationships and to provide advice and recommendations to the Forest Service concerning projects and funding consistent with the Title II of the Act. The meeting is open to the public. The purpose of the meeting is to select projects for implementation.

DATES: The meetings will be held on the following dates and times:

• Tuesday, June 24, 2014 at 7:00 p.m.

• Tuesday, July 22, 2014 at 7:00 p.m.

All RAC meetings are subject to cancellation. For status of meeting prior to attendance, please contact the person listed under FOR FURTHER INFORMATION CONTACT.

ADDRESSES: The meetings will be held at the Judith Ranger District, 109 Central Avenue, Stanford, Montana 59479. Written comments may be submitted as described under SUPPLEMENTARY INFORMATION. All comments, including names and addresses when provided, are placed in the record and are available for public inspection and copying. The public may inspect comments received at the Judith Ranger District. To facilitate entry into the building to view comments, please contact the person listed in the section titled FOR FURTHER INFORMATION CONTACT.

FOR FURTHER INFORMATION CONTACT: Ron B.Wiseman, District Ranger, Lewis and Clark National Forest, by phone at 406-566-2292, or via email at rwiseman@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Discussion and approval of RAC notes, project guidelines, criteria, (2) Discussion of project development and recommendation process, and (3) Review and vote on projects. Anyone who would like to bring related matters to the attention of the committee may file written statements with the committee staff before or after the meeting. The agenda will include time for people to make oral statements of three minutes or less. Individuals wishing to make an oral statement should request in writing by June 17, 2014 and July 15, 2014 to be scheduled on the agenda. Written comments and requests for time for oral comments must be sent to Ron B. Wisman, Judith Ranger District, 109 Central Avenue., Stanford, Montana 59479, by email at rwiseman@fs.fed.us, or via facsimile at 406- 566-2408.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: May 5, 2014.
Ron B. Wiseman,
District Ranger.

[FR Doc. 2014-11320 Filed 5-15-14; 8:45 am]

BILLING CODE 3411-15-P